OFFICE OF THE UNITED STATES TRADE REPRESENTATIVE

Determination Regarding Waiver of Discriminatory Purchasing Requirements With Respect to Goods and Services Covered by Chapter 9 of the U.S.-Morocco Free Trade Agreement and Chapter 9 of the Dominican Republic-Central America-United States Free Trade Agreement for El Salvador

AGENCY: Office of the United States Trade Representative.

ACTION: Determination under Trade Agreements Act of 1979.

DATES: Effective Date: March 20, 2006.

FOR FURTHER INFORMATION CONTACT: Dawn Shackleford, Director for International Procurement, Office of the United States Trade Representative, (202) 395-9461, or Jason Kearns, Assistant General Counsel, Office of the United States Trade Representative, (202) 395-9439.

On June 15, 2004, the United States and Morocco entered into the United States-Morocco Free Trade Agreement (“the USMFTA”). Chapter 9 of the USMFTA sets forth certain obligations with respect to government procurement of goods and services, as specified in Annexes 9-A-1 and 9-A-3 of the USMFTA. On August 17, 2004, the President signed into law the United States-Morocco Free Trade Agreement Implementation Act (“the USMFTA Act”) (Pub. L. 108-302, 118 Stat. 1103) (19 U.S.C. 3805 note). In section 101(a) of the USMFTA Act, the Congress approved the USMFTA and the statement of administrative action proposed to implement the USMFTA that the President submitted to the Congress. The USMFTA entered into force on January 1, 2006.

On August 5, 2004, the United States and El Salvador entered into the Dominican Republic-Central America-United States Free Trade Agreement (“the CAFTA-DR”). Chapter 9 of the CAFTA-DR sets forth certain obligations with respect to government procurement of goods and services, as specified in Annex 9.1.2(b)(i) of the CAFTA-DR. On August 2, 2005, the President signed into law the Dominican Republic-Central America-United States Free Trade Agreement Implementation Act (“the CAFTA-DR Act”) (Pub. L. No. 109-53, 119 Stat. 462) (19 U.S.C. 4001 note). In section 101(a) of the CAFTA-DR Act, the Congress approved the CAFTA-DR and the statement of administrative action proposed to implement the CAFTA-DR that the President submitted to Congress. The CAFTA-DR entered into force on March 1, 2006 for El Salvador.

Section 1-201 of Executive Order 12260 of December 31, 1980 (46 FR 1653) delegates the functions of the President under Sections 301 and 302 of the Trade Agreements Act of 1979 (“the Trade Agreements Act”) (19 U.S.C. 2511, 2512) to the United States Trade Representative.

Now, therefore, I, Rob Portman, United States Trade Representative, in conformity with the provisions of Sections 301 and 302 of the Trade Agreements Act, and Executive Order 12260, and in order to carry out U.S. obligations under Chapter 9 of each the USMFTA and the CAFTA-DR, do hereby determine that:

1. Morocco and El Salvador are countries, other than major industrialized countries, which, pursuant to the USMFTA and the CAFTA-DR, respectively, will provide appropriate reciprocal competitive government procurement opportunities to United States products and suppliers of such products. In accordance with Section 301(b)(3) of the Trade Agreements Act, Morocco and El Salvador are so designated for purposes of Section 301(a) of the Trade Agreements Act.

2. With respect to eligible products of Morocco and El Salvador (i.e., goods and services covered by the Schedules of the United States in Annexes 9-A-1 and 9-A-3 of the USMFTA and Annex 9.1.2(b)(i) of the CAFTA-DR, respectively) and suppliers of such products, the application of any law, regulation, procedure, or practice regarding government procurement that would, if applied to such products and suppliers, result in treatment less favorable than accorded —

(A) To United States products and suppliers of such products; or

(B) To eligible products of another foreign country or instrumentality which is a party to the Agreement on Government Procurement referred to in section 101(d)(17) of the Uruguay Round Agreements Act (19 U.S.C. 3511(d)(17)) and suppliers of such products, shall be waived.

With respect to Morocco, this waiver shall be applied by all entities listed in the Schedule of the United States to Annex 9-A-1 and in list A of the Schedule of the United States to Annex 9-A-3 of the USMFTA. With respect to El Salvador, this waiver shall be applied by all entities listed in the Schedule of the United States to Section A of Annex 9.1.2(b)(i) and in List A of Section C of Annex 9.1.2(b)(i) of the CAFTA-DR.

3. The designation in paragraph 1 and the waiver in paragraph 2 are subject to modification or withdrawal by the United States Trade Representative.

Rob Portman,
United States Trade Representative.

[FR Doc. E6-4004 Filed 3-17-06; 8:45 am]

BILLING CODE 3190-W6-P